DEPARTMENT OF THE TREASURY

Internal Revenue Service

Senior Executive Service Performance Review Board

AGENCY: Internal Revenue Service (IRS), Department of the Treasury.

ACTION: Notice.

SUMMARY: To announce a list of senior executives who comprise a standing roster that will serve on IRS's Fiscal Year 2021 Senior Executive Service (SES) Performance Review Boards.

DATES: This list is effective September 1, 2021.

FOR FURTHER INFORMATION CONTACT: Sharnetta A. Walton, Director, Office of Executive Services at (202) 317-3817 or Malaika Green, Deputy Director, Office of Executive Services at (202) 317-3823, IRS, 1111 Constitution Avenue NW, Washington, DC 20224.

SUPPLEMENTARY INFORMATION: Pursuant to 5 U.S.C. 4314(c)(4), this board shall review and evaluate the initial appraisals of career senior executives' performance and provide recommendations to the appointing authority on performance ratings, pay adjustments and performance awards. The senior executives are as follows:

Justin L. Abold-LaBreche

David P. Alito

Robin D. Bailey, Jr.

Scott A. Ballint

Lisa J. Beard-Niemann

Robert J. Bedoya

Michael C. Beebe

Jennifer L. Best

Carol A. Campbell

John V. Cardone

Anthony S. Chavez

James P. Clifford

Amalia C. Colbert

Erin M. Collins

Lucinda J. Comegys

Kenneth C. Corbin

Robert S. Cox

Tracy L. Deleon

Brenda A. Dial

Joseph Dianto

Donald C. Drake

Elizabeth A. Dugger

Sheila Eason

Michelle L. Eldridge

James L. Fish

Sharyn M. Fisk

Nikole C. Flax

Julie A. Foerster

Jeff D. Gill

Linda K. Gilpin

Dagoberto Gonzalez

Dietra D. Grant

Darren J. Guillot

Valerie A. Gunter

Todd L. Harber

Barbara Harris

Gearl D. Harris

Keith A. Henley

Anita M. Hill

Robert E. Hill

John E. Hinding

Carrie Y. Holland

Yumin Hsu

Scott E. Irick

Barry W. Johnson

Nikki C. Johnson

William H. Kea, Jr.

Lou Ann Kelleher

Andrew J. Keyso, Jr.

Edward T. Killen

James C. Lee

Terry L. Lemons

Sunita Lough

Robert W. Malone

Heather C. Maloy

Lee D. Martin

Kevin Q. McIver

Karen A. Michaels

Kevin M. Morehead

Robin L. Moses

Bryan L. Musselman

Frank A. Nolden

Douglas W. O'Donnell

Deborah T. Palacheck

Kaschit D. Pandya

Holly O. Paz

Scott D. Reisher

Bridget T. Roberts

James D. Robnett

Richard L. Rodriguez

Clifford R. Scherwinski

Frederick W. Schindler

Verline A. Shepherd

Nancy A. Sieger

Susan A. Simon

Eric D. Slack

Harrison Smith

Tommy A. Smith

Jeffrey J. Tribiano

Kathryn D. Vaughan

Shanna R. Webbers

Lavena B. Williams

Maha H. Williams

Lisa S. Wilson

Sheila D. Wright

This document does not meet the Treasury's criteria for significant regulations.

Douglas W. O'Donnell,
Deputy Commissioner for Services and Enforcement, Internal Revenue Service.

[FR Doc. 2021-17111 Filed 8-10-21; 8:45 am]

BILLING CODE 4830-01-P